ENVIRONMENTAL PROTECTION AGENCY

40 CFR Parts 52 and 81

[EPA-R05-OAR-2010-0523; FRL-9619-8]

Approval and Promulgation of Implementation Plans and Designation of Areas for Air Quality Planning Purposes; Illinois; Redesignation of the Illinois Portion of the St. Louis, MO-IL Area to Attainment for the 1997 8-Hour Ozone Standard

AGENCY: Environmental Protection Agency (EPA).

ACTION: Proposed rule; extension of public comment period.

SUMMARY: EPA is extending the comment period for a proposed rule published December 22, 2011 (76 FR 79579). On December 22, 2011, EPA proposed to approve the State of Illinois' request to redesignate the Illinois portion of the St. Louis, MO-IL nonattainment area (Jersey, Madison, Monroe, and St. Clair Counties) to attainment for the 1997 8-hour ozone National Ambient Air Quality Standard (NAAQS). In conjunction with the proposed approval of the redesignation request, EPA proposed to approve, as a revision to the Illinois State Implementation Plan, the State's plan for maintaining the 1997 8-hour ozone NAAQS through 2025 in the area. EPA also proposed to approve the 2002 emissions inventory as meeting the comprehensive emissions inventory requirement of the Clean Air Act for the Illinois portion of the St. Louis area. Finally, EPA proposed to approve the State's 2008 and 2025 Motor Vehicle Emission Budgets for the Illinois portion of the St. Louis area. In response to a December 22, 2011, request from David C. Bender, EPA is extending the comment period for 30 days.

DATES: Comments. The public comment period for the proposed rule published December 22, 2011 (76 FR 79579) is being extended for 30 days to February 22, 2012.

ADDRESSES: Submit comments, identified by Docket ID No. EPA-R05-OAR-2010-0523, to: Douglas Aburano, Chief, Attainment Planning and Maintenance Section, Air Programs Branch (AR-18J), U.S. Environmental Protection Agency, Region 5, 77 West Jackson Boulevard, Chicago, Illinois 60604, (312) 353-6960, aburano.douglas@epa.gov. Additional instructions to comment can be found in the notice of proposed rulemaking published December 22, 2011 (76 FR 79579).

FOR FURTHER INFORMATION CONTACT: Kathleen D'Agostino, Environmental Engineer, Attainment Planning and Maintenance Section, Air Programs Branch (AR-18J), U.S. Environmental Protection Agency, Region 5, 77 West Jackson Boulevard, Chicago, Illinois 60604, (312) 886-1767, dagostino.kathleen@epa.gov.

Dated: January 9, 2012.
Susan Hedman,
Regional Administrator, Region 5.

[FR Doc. 2012-1123 Filed 1-19-12; 8:45 am]

BILLING CODE 6560-50-P